DEPARTMENT OF TRANSPORTATION

Federal Railroad Administration

Docket Number FRA-2021-0099]

Petition for Waiver of Compliance

Under part 211 of title 49 Code of Federal Regulations (CFR), this document provides the public notice that on October 13, 2021, the Lake Superior Railroad Museum (LSRM) petitioned the Federal Railroad Administration (FRA) for a waiver of compliance from certain provisions of the Federal railroad safety regulations contained at 49 CFR 223.11, Requirements for existing locomotives. FRA assigned the petition Docket Number FRA-2021-0099.

Specifically, LSRM requests relief from glazing regulations for two diesel locomotives, EMC 4211 and GN 192, with noncompliant glazing.¹ The two locomotives are to be used in excursion service on the 26-mile line of the North Shore Scenic Railroad (between Duluth and Two Harbors, Minnesota) and on 1,500 feet of joint track with Canadian National (at Two Harbors). LSRM states that it is a non-profit corporation and replacing the glazing would cause a financial hardship.

¹ EMC 4211 was most recently granted relief by letter dated January 8, 2015 (see Docket Number FRA-2002-23490). GN 192 was most recently granted relief by letter dated October 8, 2014 (see Docket Number FRA-1999-6072). The relief for both locomotives has expired.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at http://www.regulations.gov. Follow the online instructions for submitting comments.

Communications received by December 13, 2021 will be considered by FRA before final action is taken. Comments received after that date will be considered if practicable. Anyone can search the electronic form of any written communications and comments received into any of our dockets by the name of the individual submitting the comment (or signing the document, if submitted on behalf of an association, business, labor union, etc.). Under 5 U.S.C. 553(c), the U.S. Department of Transportation (DOT) solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety Chief Safety Officer.

[FR Doc. 2021-23518 Filed 10-28-21; 8:45 am]

BILLING CODE 4910-06-P